Presidential Determination No. 2008-10 of January 29, 2008

Unexpected Urgent Refugee and Migration Needs Related to Africa and the Middle East

Memorandum for the Secretary of State

By the authority vested in me by the Constitution and the laws of the United States, including sections 2 and 4(a)(1) of the Migration and Refugee Assistance Act of 1962 (the “Act”), as amended (22 U.S.C. 2601 and 2603), and section 301 of title 3, United States Code:

(1) I hereby determine, pursuant to 2(c)(1) of the Act, that it is important to the national interest to furnish assistance under the Act in an amount not to exceed $32 million from the United States Emergency Refugee and Migration Assistance Fund for the purpose of meeting unexpected and urgent refugee and migration needs, including by contributions to international, governmental, and nongovernmental organizations and payment of administrative expenses of the Bureau of Population, Refugees, and Migration of the Department of State, related to humanitarian needs in Africa and in the West Bank and Gaza; and

(2) the functions of the President in relation to this memorandum under 2(d) of the Act, and of establishing terms and conditions under section 2(c)(1) of the Act, are assigned to you.

You are authorized and directed to publish this memorandum in the Federal Register.

THE WHITE HOUSE,

Washington, January 29, 2008.

[FR Doc. 08-495

Filed 2-1-08; 8:58 am]

Billing code 4710-10-P